FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than February 8, 2011.

A. Federal Reserve Bank of New York (Ivan Hurwitz, Vice President) 33 Liberty Street, New York, New York 10045-0001:

1. M&T Bank Corporation, Buffalo, New York; to acquire 100 percent of the voting shares of Wilmington Trust Corporation, and thereby indirectly acquire 100 percent of the voting shares of Wilmington Trust Company, both of Wilmington, Delaware.

In connection with this application, M&T Bank Corporation has applied to acquire Camden Partners Holdings, LLC; Camden Partners Private Equity Advisors, LLC, both of Baltimore, Maryland; Cramer Rosenthal McGlynn, LLC, White Plains, New York; Grant Tani Barash & Altman, LLC, Beverly Hills, California; Rodney Square Management Corp., Wilmington, Delaware; Roxbury Capital Management, LLC, Santa Monica, California; Wilmington Family Office, Inc.; Wilmington Trust Conduit Services, LLC, both of Wilmington, Delaware; Wilmington Trust FSB, Baltimore, Maryland; Wilmington Trust Fiduciary Services Company, Weehawken, New Jersey; Wilmington Trust Investment Management, LLC, Wilmington, Delaware; and thereby engage in (1) operating a savings association; (2) operating a nondepository trust company; (3) extending credit and servicing loans; (4) activities related to extending credit; (5) providing trust, fiduciary, and custody services; (6) acting as an investment advisor; (7) providing tax planning services; (8) securities brokerage services; (9) providing management consulting and employee benefits consulting services; (10) financing and investing in community development projects; and (11) selling U.S. savings bonds and issuing and selling traveler's checks pursuant to sections 225.28(b)(1), (2), (4), (5), (6), (7), (9), (12) and (13) of Regulation Y.

Board of Governors of the Federal Reserve System, January 10, 2011.
Robert deV. Frierson,
Deputy Secretary of the Board.

[FR Doc. 2011-698 Filed 1-13-11; 8:45 am]

BILLING CODE 6210-01-P